DEPARTMENT OF COMMERCE

National Oceanic and Atmospheric Administration

50 CFR Part 300

[RTID 0648-XF025]

Pacific Halibut Fisheries of the West Coast; Inseason Action for the 2025 Area 2A Pacific Halibut Directed Commercial Fishery

AGENCY: National Marine Fisheries Service (NMFS), National Oceanic and Atmospheric Administration (NOAA), Commerce.

ACTION: Temporary rule; inseason adjustment.

SUMMARY: NMFS announces inseason action for the 2025 Pacific halibut non-Tribal directed commercial fishery in the International Pacific Halibut Commission's (IPHC) regulatory Area 2A. This action adds a fishing period, July 22 through July 24, 2025, with a fishing period catch limit of 5,000 pounds (2.3 metric tons (mt)) per vessel, dressed weight. This action is intended to provide opportunity to achieve the 2025 non-Tribal directed commercial fishery allocation.

DATES: This rule is effective July 22, 2025, through December 7, 2025.

FOR FURTHER INFORMATION CONTACT: Heather Fitch, West Coast Region, NMFS, (360) 867-8608, heather.fitch@noaa.gov.

SUPPLEMENTARY INFORMATION: On June 25, 2025, NMFS published a final rule implementing fishing periods (i.e., season dates) and fishing period limits (i.e., catch limits), by vessel size class, for the IPHC Area 2A Pacific halibut non-Tribal directed commercial fishery that operates south of Point Chehalis, WA (lat. 46°53.30′ N) (90 FR 26931, June 25, 2025). The Area 2A non-Tribal directed commercial fishery allocation is 259,515 pounds (117.7 mt), net weight (i.e., the weight of Pacific halibut that is without gills and entrails, head-off, washed, and without ice and slime) (90 FR 13293, March 21, 2025).

The initial fishing periods occurred June 24-26 and July 8-10, 2025, with fishing period limits ranging from 2,000 pounds to 5,000 pounds (0.9 mt to 2.3 mt), varied by vessel size class. The California, Oregon, and Washington Departments of Fish and Wildlife provide estimated harvest data to NMFS inseason. This landings information indicates that sufficient allocation remains to warrant an additional fishing period. To date, approximately 173,488 pounds (78.7 mt), net weight, have been harvested of the 259,515-pound (117.7 mt) allocation (67.9 percent), leaving 86,027 pounds (39.0 mt) remaining (33.1 percent).

NMFS is adding a fishing period not previously implemented in the final rule published on June 25, 2025 (90 FR 26931), in accordance with 50 CFR 300.63(e)(1)(iii). Fishing period limits implemented through inseason action are set equal across all vessel size classes and are based on the allocation estimated to be remaining and the projected participation and catch rates in this additional fishing period.

NMFS has determined the following inseason action is necessary to meet the management objective of attaining the allocation, is not anticipated to risk exceeding the allocation, and is consistent with the inseason management provisions allowing for additional fishing periods.

Inseason Action

This inseason action implements an additional fishing period, beginning July 22, 2025, at 8 a.m. PDT and ending on July 24, 2025, at 6 p.m. PDT. This inseason action also implements a fishing period catch limit of 5,000 pounds (2.3 mt) per vessel, dressed weight (head-on, with ice and slime), for all vessel size classes.

On July 16, 2025, notice of this inseason action was sent via email notification directly to the affected permit holders using the email addresses obtained from the 2025 Pacific halibut directed commercial fishery permit applications. Notice of this inseason action was also posted on the NMFS website: https://www.fisheries.noaa.gov/action/2025-west-coast-pacific-halibut-directed-commercial-fishery. Pursuant to 50 CFR 300.63(e)(1)(iii) this inseason action is effective either upon the date and time of receipt of the direct email notification, or upon publication in the Federal Register, whichever occurs earlier (90 FR 26931, June 25, 2025).

Classification

NMFS issues this action pursuant to the Northern Pacific Halibut Act of 1982. This action is taken under the regulatory authority at 50 CFR 300.63(e)(1)(iii), and is exempt from review under Executive Order 12866.

Pursuant to 5 U.S.C. 553(b)(B), there is good cause to waive prior notice and an opportunity for public comment on this action, as notice and comment would be impracticable and contrary to the public interest. As previously noted, notification of the additional fishing period was provided to the affected public through direct email to permit holders and to the general public via the NMFS website. As of July 16, 2025, the Area 2A non-Tribal directed commercial fishery had caught only an estimated 66.9 percent of the fishery allocation. Given that harvest in the first two fishing periods in 2025 is estimated to be well below the annual allocation, sufficient allocation remains to warrant an additional fishing period and a third fishing period is considered necessary to maximize commercial fishing opportunity to attain the allocation. On July 16, 2025, in accordance with 50 CFR 300.63(e)(1)(iii), notice of this inseason action was sent via email notification directly to the affected permit holders using the email addresses obtained from the 2025 Pacific halibut directed commercial fishery permit applications. Notice of inseason action to add subsequent fishing periods via direct email to permit holders was established in 2025 to provide fishermen sufficient time to plan for any additional fishing period and to follow the prescribed schedule for additional fishing periods set out in the final rule establishing the annual management measures for the directed commercial fishery (90 FR 26931, June 25, 2025).

The fishery may close no later than December 7, 2025 (90 FR 13293, March 21, 2025). As such, implementing this action through proposed and final rulemaking would limit the benefit this action is intended to provide to fishery participants. Without timely implementation of any warranted additional fishing periods, the annual fishery allocation would unlikely be reached. Failure to meet the annual allocation would limit the economic benefits from the fishery to participants and would result in the fishery not meeting the goals of the Catch Sharing Plan. Additionally, no aspect of this action is controversial, and inseason changes of this nature were anticipated in the process described in regulations at 50 CFR 300.63(e)(1)(iii) and in the final rule (90 FR 26931, June 25, 2025). Accordingly, there is good cause to waive prior notice and an opportunity for public comment on this action.

For the reasons discussed above, there is also good cause under 5 U.S.C. 553(d)(3) to establish an effective date less than 30 days after the date of publication of this action in the Federal Register, as such a delay in effectiveness would unnecessarily constrain fishing opportunity and be inconsistent with the goals of the Catch Sharing Plan. Such a delay would also limit the economic opportunity for fishermen and their associated fishing communities that is intended to be created by this rule. This inseason action is warranted based on remaining allocation and is not expected to result in exceeding the Area 2A Pacific halibut non-Tribal directed commercial fishery allocation. NMFS regulations allow for adding fishing periods and setting fishing period limits inseason to provide opportunity to achieve the annual allocation, when sufficient allocation remains and additional fishing will not result in exceeding the catch limit for the fishery. NMFS recently received information on the progress of landings in the non-Tribal directed commercial fishery, indicating that an additional fishing period with fishing period limits should be implemented in the fishery to ensure optimal and sustainable harvest of the allocation. As stated above, it is in the public interest that this action is not delayed, because a delay in the effectiveness of this additional fishing period would likely inhibit the allocation objectives of the Area 2A Pacific halibut non-Tribal directed commercial fishery from being met. Finally, NMFS has determined that this rule qualifies for a waiver of the 30-day delay in effective date pursuant to 5 U.S.C. 553(d)(1) because absent the delay in effectiveness participants would otherwise be able to fish on the dates outlined for the additional fishing period in the final rule (90 FR 26931, June 25, 2025).

Authority: 16 U.S.C. 773-773k.

Dated: July 18, 2025.
Kelly Denit,
Director, Office of Sustainable Fisheries, National Marine Fisheries Service.

[FR Doc. 2025-13764 Filed 7-21-25; 8:45 am]

BILLING CODE 3510-22-P